DEPARTMENT OF AGRICULTURE

Office of the Secretary

Fiscal Year 2020 Raw Cane Sugar Tariff-Rate Quota Increase and Extension of Entry Period

AGENCY: Office of the Secretary, Agriculture Department (USDA).

ACTION: Notice.

SUMMARY: The Office of the Secretary of the U.S. Department of Agriculture (the Secretary) is providing notice of an increase in the fiscal year (FY) 2020 raw cane sugar tariff-rate quota (TRQ) of 90,718 metric tons raw value (MTRV) and an extension of the TRQ entry period.

DATES: The TRQ increase and extension of entry period go into effect September 10, 2020.

ADDRESSES: Multilateral Affairs Division, Trade Policy and Geographic Affairs, Foreign Agricultural Service, U.S. Department of Agriculture, Stop 1070, 1400 Independence Avenue SW, Washington, DC 20250-1070.

FOR FURTHER INFORMATION CONTACT: Souleymane Diaby, (202) 720-2916, Souleymane.Diaby@usda.gov.

SUPPLEMENTARY INFORMATION: On June 27, 2019, the Secretary established the FY 2020 TRQ for raw cane sugar at 1,117,195 MTRV, the minimum to which the United States is committed under the World Trade Organization (WTO) Uruguay Round Agreements. Pursuant to Additional U.S. Note 5 to Chapter 17 of the U.S. Harmonized Tariff Schedule (HTS) and Section 359k of the Agricultural Adjustment Act of 1938, as amended, the Secretary has authority to modify the raw and refined sugar WTO TRQs. On April 3, 2020, the Secretary increased the FY 2020 TRQ for raw sugar by 317,515 MTRV. The Secretary gives notice today of an increase in the quantity of raw cane sugar eligible to enter at the lower rate of duty during FY 2020 by 90,718 MTRV. The conversion factor is 1 metric ton raw value equals 1.10231125 short tons raw value. With this increase, the overall FY 2020 raw sugar TRQ is now 1,525,428 MTRV. Raw cane sugar under this quota must be accompanied by a certificate for quota eligibility. The Office of the U.S. Trade Representative (USTR) will allocate this increase among supplying countries and customs areas.

The Secretary also today announces that all sugar entering the United States under the FY 2020 raw sugar TRQ will be permitted to enter U.S. Customs territory through October 31, 2020, a month later than the usual last entry date. Additional U.S. Note 5(a)(iv) of Chapter 17 of the Harmonized Tariff Schedule of the United States provides: “(iv) Sugar entering the United States during a quota period established under this note may be charged to the previous or subsequent quota period with the written approval of the Secretary.”

These actions are being taken after a determination that additional supplies of raw cane sugar are required in the U.S. market. USDA will closely monitor stocks, consumption, imports and all sugar market and program variables on an ongoing basis and may make further program adjustments during FY 2020 if needed.

Ted A. McKinney,
Under Secretary, Trade and Foreign Agricultural Affairs.

[FR Doc. 2020-20065 Filed 9-8-20; 4:15 pm]

BILLING CODE 3410-10-P